DEPARTMENT OF HEALTH AND HUMAN SERVICES

Centers for Disease Control and Prevention

[60Day-23-23HD; Docket No. CDC-2023-0067]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Exposures, Health Effects, and Controls of Chemicals from Thermal Spray Coating. The purpose of the proposed data collection is to conduct a survey of thermal spray coating facilities to better understand work practices and controls related to metals, particles, and gases generated during thermal spray coating and to identify areas for potential intervention.

DATES: CDC must receive written comments on or before October 6, 2023.

ADDRESSES: You may submit comments, identified by Docket No. CDC-2023-0067 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Exposures, health effects, and controls of chemicals from thermal spray coating—New—National Institute for Occupational Safety and Health (NIOSH), Centers for Disease Control and Prevention (CDC).

Background and Brief Description

Thermal spray coating (TSC) is a surface treatment process that enables different types of feedstock material to be deposited on to various substrates—metals, metal alloys, ceramics, and plastics. The process involves spraying a liquid or molten metal coating product under pressure onto a surface where it solidifies and forms a solid coating. The coating material can be pure metals, metal alloys, carbides, oxides, ceramics, and ceramic metals in wire or powder form that will not decompose when melted. Although TSC technology has been around for decades, recently it has been refined and optimized to impart new properties and functionalities to the coatings, applied through numerous processes such as flame-, cold-, plasma-, and electric arc-spraying, arising from the different combinations of sources of thermal and kinetic energy, form and composition of the feedstock material and other system configurations. TSC processes are relatively simple to use, economical, and have been applied to almost all industrial sectors such as automotive, aerospace, machine shops, electronics, medical, shipyards, and printing. Important uses include coatings for wear prevention, repair, restoration, thermal insulation/conduction, corrosion/oxidation resistance, seals, and decoration.

TSC is a fast-growing and emerging industry, but generates exposures that are known to be hazardous in other settings. However, effects of TSC processes, quantitative exposures, and subsequent health effects remain mostly unknown because of paucity of epidemiologic and exposure studies. Limited data on exposures of workers engaged in TSC and associated operations and personal communications with industrial hygienists in this industry suggests exposures can greatly exceed the current occupational exposure limits, but the prevalence of respiratory abnormalities including occupational asthma and chronic obstructive pulmonary disease in this population remains unknown. In addition, many workplaces conduct TSC work manually or semi-automatically, and some TSC tasks may not be easily amenable to installation of ventilation controls (e.g., during spray-coating of parts with wide surface area).

The purpose of the proposed data collection is to conduct a survey of thermal spray coating facilities to: (1) better understand work practices and controls related to metals, particles, and gases generated during thermal spray coating; (2) identify areas for potential intervention; and (3) identify thermal spray coating facilities willing to participate in future NIOSH exposure and health research.

The burden hours are estimated based on limited pilot testing conducted internally using the survey instrument and previous pilot testing done using a similar survey instrument. In these pilot tests, the amount of time for instruction review, collection of mock information, and the survey completion was between 10-30 minutes. The median time of 20 minutes was used to estimate annual burden hours. Currently, the total number of thermal spray coating businesses in the United States is unknown. In 2004, the Air Resources Board (ARB) in California Environmental Protection Agency conducted the Thermal Spraying Facility Survey of facilities performing thermal spray coating throughout California and reported 97 companies that potentially used TSC. Based on the California ARB report, we estimated approximately 5,000 thermal spray coating businesses nationwide. CDC requests OMB approval for an estimated 1,667 annual burden hours. There are no costs to respondents other than their time to participate.

Estimated Annualized Burden Hours
Type of respondents | Form name | Number of respondents | Number of responses per respondent | Average burden per response (in hours) | Total burden (in hours)
Thermal spray coating facility managers/owners | Survey | 5,000 | 1 | 20/60 | 1,667
Total |  |  |  |  | 1,667

Jeffrey M. Zirger,
Lead, Information Collection Review Office, Office of Public Health Ethics and Regulations, Office of Science, Centers for Disease Control and Prevention.

[FR Doc. 2023-16760 Filed 8-4-23; 8:45 am]

BILLING CODE 4163-18-P